DEPARTMENT OF THE INTERIOR

National Park Service

[NPS-WASO-NAGPRA-NPS0034877; PPWOCRADN0-PCU00RP14.R50000]

Notice of Inventory Completion: Peabody Museum of Archaeology and Ethnology, Harvard University, Cambridge, MA

AGENCY: National Park Service, Interior.

ACTION: Notice.

SUMMARY: The Peabody Museum of Archaeology and Ethnology, Harvard University has completed an inventory of human remains and associated funerary objects, in consultation with the appropriate Indian Tribes or Native Hawaiian organizations, and has determined that there is no cultural affiliation between the human remains and associated funerary object and any present-day Indian Tribes or Native Hawaiian organizations. Representatives of any Indian Tribe or Native Hawaiian organization not identified in this notice that wish to request transfer of control of these human remains and associated funerary object should submit a written request to the Peabody Museum of Archaeology and Ethnology, Harvard University. If no additional requestors come forward, transfer of control of the human remains and associated funerary object to the Indian Tribes or Native Hawaiian organizations stated in this notice may proceed.

DATES: Representatives of any Indian Tribe or Native Hawaiian organization not identified in this notice that wish to request transfer of control of these human remains and associated funerary object should submit a written request with information in support of the request to the Peabody Museum of Archaeology and Ethnology, Harvard University at the address in this notice by December 19, 2022.

FOR FURTHER INFORMATION CONTACT: Jane Pickering, William & Muriel Seabury Howells Director, Peabody Museum of Archaeology and Ethnology, Harvard University, 11 Divinity Avenue, Cambridge, MA 02138, telephone (617) 496-2374, email jpickering@fas.harvard.edu.

SUPPLEMENTARY INFORMATION: Notice is here given in accordance with the Native American Graves Protection and Repatriation Act (NAGPRA), 25 U.S.C. 3003, of the completion of an inventory of human remains and associated funerary objects under the control of the Peabody Museum of Archaeology and Ethnology, Harvard University, Cambridge, MA. The human remains and associated funerary object were removed from Barnstable, Bristol, Dukes, and Plymouth Counties, MA.

This notice is published as part of the National Park Service's administrative responsibilities under NAGPRA, 25 U.S.C. 3003(d)(3) and 43 CFR 10.11(d). The determinations in this notice are the sole responsibility of the museum, institution, or Federal agency that has control of the Native American human remains and associated funerary object. The National Park Service is not responsible for the determinations in this notice.

Consultation

A detailed assessment of the human remains and associated funerary objects was made by the Peabody Museum of Archaeology and Ethnology professional staff in consultation with representatives of the Mashpee Wampanoag Tribe (previously listed as Mashpee Wampanoag Indian Tribal Council, Inc.); Narragansett Indian Tribe; Wampanoag Tribe of Gay Head (Aquinnah); and the Assonet Band of the Wampanoag Nation, a non-federally recognized Indian group (hereafter referred to as “The Consulted Tribes and Group”).

History and Description of the Remains

Barnstable County, MA

In 1901, human remains representing, at minimum, one individual were removed by an unknown person from an unknown site in Osterville. In 1901 or 1902, Dr. S.W. Driver donated these human remains to the Peabody Museum through Dr. Frederic Ward Putnam. The human remains are postcranial fragments belonging to an adult female. No known individual was identified. No associated funerary objects are present.

In the spring of 1921, human remains representing, at minimum, three individuals were removed by Charles C. Owen from Grand Island in Osterville. In December of 1921, A.A. Marsters donated these human remains to the Peabody Museum. The human remains are cranial and postcranial elements belonging to two adult males and one adult of unknown sex. No known individuals were identified. No associated funerary objects are present.

In March of 1934, human remains representing, at minimum, one individual were removed by Lauchlan M. Crocker, the Sheriff of Barnstable County, from an unknown site in Barnstable. That same month, Crocker donated these human remains to the Peabody Museum. The human remains were recorded as being 12 feet underground. The human remains are cranial and postcranial fragments belonging to an adult female. No known individual was identified. No associated funerary objects are present.

At an unknown date, human remains representing, at minimum, one individual were removed by Edward H. Rogers from an unknown site in Provincetown. Rogers donated these human remains to the Robert S. Peabody Institute, which in turn donated them to the Peabody Museum in December of 1937. The human remains are the partial cranium and postcranial elements belonging to an adult female. No known individual was identified. The one associated funerary object is a projectile point. As the point's shape most likely falls within the “Neville” tradition, it is a modified Neville point. The Neville tradition is associated with the Middle Archaic period in southeastern New England (ca. 8000-6000 B.P.).

In 1947, human remains representing, at minimum, one individual were removed by Ross Moffett from the Hillside site in Truro. That same year, Moffett donated these human remains to the Peabody Museum. The human remains were located in a brownish-black, sandy midden layer. Moffett's descriptions of grit-tempered pottery known as Early Woodland Period Vinette I and Fox Creek style projectile points—these are not in the collections of the Peabody Museum—suggest that this interment most likely dates from the Early to Middle Woodland Period (3000-1000 B.P.). The human remains are the nearly complete skeleton belonging to a subadult male. No known individual was identified. No associated funerary objects are present.

At an unknown date, human remains representing, at minimum, one individual were removed by Deputy Sheriff Louis Cataldo from the Indian Neck site in Wellfleet. In March of 1966, Cataldo donated these human remains to the Peabody Museum through Dr. Edward Hunt. The human remains are the partial cranium and postcranial elements belonging to an adult male. No known individual was identified. No associated funerary objects are present.

In 1867, human remains representing, at minimum, one individual were removed by Dr. Jeffries Wyman from the Cotuit port shell heap and donated by him to the Peabody Museum. The human remains are postcranial fragments belonging to an adult of unknown sex. No known individual was identified. No associated funerary objects are present.

In February of 1970, human remains representing, at minimum, one individual were removed by the Bourne Police from an unknown site in Buzzards Bay in Bourne. Deputy Sheriff Cataldo donated these human remains to the Peabody Museum. The human remains were removed from a depth of approximately 30 feet. The human remains are the nearly complete cranium belonging to an adult female. No known individual was identified. No associated funerary objects are present.

Bristol County, MA

In July of 1945, human remains representing, at minimum, one individual were removed by workmen while excavating a sewer on the property of John Martin in Taunton. That same month, Dr. Alan Richards Moritz of Harvard University's Department of Legal Medicine donated these human remains to the Peabody Museum. The human remains are the partial cranium and postcranial fragments belonging to an adult female. No known individual was identified. No associated funerary objects are present.

At an unknown date, human remains representing, at minimum, one individual were removed by an unknown person from an unknown site in New Bedford. These human remains were given to the Robert S. Peabody Institute, which in turn presented them to the Peabody Museum in February of 1963. The human remains are the partial cranium belonging to an adult male. No known individual was identified. No associated funerary objects are present.

Dukes County, MA

In 1914, human remains representing, at minimum, one individual were removed by Edward Wigglesworth from Wasque Point on Martha's Vineyard. In July of 1914, Curtis N. Smith donated these human remains to the Peabody Museum. The human remains are cranial and postcranial fragments belonging to an adult of unknown sex. No known individual was identified. No associated funerary objects are present.

At an unknown date, human remains representing, at minimum, one individual were removed by Dr. Charles T. Jackson from an “Indian burial place” on Martha's Vineyard. Jackson presented these remains to the Boston Society for Medical Improvement (BSMI). In June of 1889, the cabinet of the BSMI was officially transferred to the Warren Anatomical Museum, Harvard University (WAM), and in May of 1959, WAM transferred the human remains to the Peabody Museum. The original inventory of the human remains describes the burial location as full of small shells and notes that many of the bodies in the burial place were interred in an erect posture surrounded by shells. The human remains are the nearly complete cranium belonging to an adult female. No known individual was identified. No associated funerary objects are present.

Plymouth County, MA

In March of 1940, human remains representing, at minimum, one individual were removed by Norman Merry, Arthur Chandler, and Superintendent Sherman from an unknown site in Lakeville. That same month, Dr. Alan Richards Moritz of Harvard University's Department of Legal Medicine donated these human remains to the Peabody Museum. The human remains are postcranial fragments belonging to an adult of unknown sex. No known individual was identified. No associated funerary objects are present.

At an unknown date, human remains representing, at minimum, one individual were removed by Dr. Charles T. Jackson from a refuse heap in Plymouth. In November of 1943, the Boston Society of Natural History donated these human remains to the Peabody Museum through Dr. Frederic T. Lewis. The human remains are postcranial fragments belonging to an adult of unknown sex. No known individual was identified. No associated funerary objects are present.

In May of 1946, human remains representing, at minimum, one individual were removed by Dr. Raymond G. Vinal from an unknown site in Norwell. Vinal turned these human remains over to the Massachusetts State Police, who delivered them to Harvard University's Department of Legal Medicine. That same month, Dr. Alan Richards Moritz of the Department of Legal Medicine donated these human remains to the Peabody Museum. The human remains were found buried 2.5-3 feet beneath the ground in gravel resembling hard-packed sand. The human remains are cranial and postcranial fragments belonging to an adult male. No known individual was identified. No associated funerary objects are present.

In April of 1947, human remains representing, at minimum, two individuals were removed by Dr. Maurice Robbins and William Bell Taylor from the Taylor Farm Site, 19Pl165, in North Middleboro. In May of 1947, Robbins donated these human remains to the Peabody Museum. The human remains are the partial cranium and postcranial elements belonging to two adult females. No known individuals were identified. No associated funerary objects are present.

At an unknown date, human remains representing, at minimum, one individual were removed by an unknown person from an unknown site in Middleboro. In December of 1883, J. Collins Warren donated these human remains to the Warren Anatomical Museum, Harvard University (WAM) as part of the J. Mason Warren Collection, and in May of 1959, WAM transferred them to the Peabody Museum. The human remains are the nearly complete cranium belonging to an adult male. No known individual was identified. No associated funerary objects are present.

In August of 1961, human remains representing, at minimum, seven individuals were removed by a member of the Cohannet Chapter of the Massachusetts Archaeological Society named “Curtis” from the Wapanucket 8 site in Middleboro. In September of 1961, the Massachusetts Archaeological Society, through Maurice Robbins, donated the human remains to the Peabody Museum. The human remains were found in a burial feature consisting of burned and unburned bones capped by a layer of red paint. Radiocarbon dates, artifacts diagnostic of the Archaic period, and the cremation burial suggest that this site and interment dates to the Late Archaic Period (5000-3000 B.P.). The human remains are cranial and postcranial fragments belonging to two infants of unknown sex, one child of unknown sex, one subadult of unknown sex, one adult male, one adult female, and one adult of unknown sex. No known individuals were identified. No associated funerary objects are present.

Determinations Made by the Peabody Museum of Archaeology and Ethnology, Harvard University

Officials of the Peabody Museum of Archaeology and Ethnology, Harvard University have determined that:

• Pursuant to 25 U.S.C. 3001(9), the human remains described in this notice are Native American based on osteological analysis, archeological context, and museum records.

• Pursuant to 25 U.S.C. 3001(9), the human remains described in this notice represent the physical remains of 27 individuals of Native American ancestry.

• Pursuant to 25 U.S.C. 3001(3)(A), the one object described in this notice is reasonably believed to have been placed with or near individual human remains at the time of death or later as part of the death rite or ceremony.

• Pursuant to 25 U.S.C. 3001(2), a relationship of shared group identity cannot be reasonably traced between the Native American human remains and associated funerary object and any present-day Indian Tribe.

• Treaties, Acts of Congress, or Executive Orders, indicate that the land from which the Native American human remains and associated funerary object were removed is the aboriginal land of the Mashpee Wampanoag Tribe (previously listed as Mashpee Wampanoag Indian Tribal Council, Inc.) and the Wampanoag Tribe of Gay Head (Aquinnah) (hereafter referred to as “The Tribes”).

• Pursuant to 43 CFR 10.11(c)(1), the disposition of the human remains and associated funerary object may be to The Tribes.

Additional Requestors and Disposition

Representatives of any Indian Tribe or Native Hawaiian organization not identified in this notice that wish to request transfer of control of these human remains and associated funerary object should submit a written request with information in support of the request to Jane Pickering, William & Muriel Seabury Howells Director, Peabody Museum of Archaeology and Ethnology, Harvard University, 11 Divinity Avenue, Cambridge, MA 02138, telephone (617) 496-2374, email jpickering@fas.harvard.edu, by December 19, 2022. After that date, if no additional requestors have come forward, transfer of control of the human remains and associated funerary object to The Tribes may proceed.

The Peabody Museum of Archaeology and Ethnology, Harvard University is responsible for notifying The Consulted Tribes and Group that this notice has been published.

Dated: November 9, 2022.
Melanie O'Brien,
Manager, National NAGPRA Program.

[FR Doc. 2022-25137 Filed 11-17-22; 8:45 am]

BILLING CODE 4312-52-P